DEPARTMENT OF COMMERCE

International Trade Administration

[A-570-806]

Silicon Metal From the People's Republic of China: Notice of Amended Final Results of New Shipper Reviews Pursuant to Court Decision

AGENCY: Import Administration, International Trade Administration, Department of Commerce.

DATES: Effective Date: March 29, 2010.

SUMMARY: On May 5, 2009, the Court of International Trade (“CIT”) affirmed the Department's remand determination issued pursuant to the Court's remand order in Globe Metallurgical, Inc. v. United States, Court No. 07-00386, Slip Op. 08-105 (CIT October 1, 2008) (“Remand Order”), which concerned the Department of Commerce's (“the Department”) determination of the appropriate surrogate value for silica fume in Silicon Metal From the People's Republic of China: Notice of Final Results of 2005/2006 New Shipper Reviews, 72 FR 58,641 (October 16, 2007) (“Final Results”) and accompanying Issues and Decision Memorandum. See Globe Metallurgical, Inc. v. United States, Court No. 07-00386, Slip Op. 09-137 (CIT May 5, 2009) (“May 5th Order”). On February 23, 2010, the Court of Appeals for the Federal Circuit (“CAFC”) dismissed the appeal of Globe Metallurgical, Inc. v. United States, Court No. 2009-1436 (“Dismissal Order”). As explained below, in accordance with the CIT's May 5th Order and the CAFC's Dismissal Order, the Department is amending the Final Results of the new shipper reviews to apply the recalculated surrogate value for the by-product silica fume in the Department's normal value calculation.

FOR FURTHER INFORMATION CONTACT: Jerry Huang or Scot T. Fullerton, AD/CVD Operations, Office 9, Import Administration, U.S. Department of Commerce, 14th Street and Constitution Avenue, NW., Room 4017, Washington, DC 20230; telephone: (202) 482-4047 or (202) 482-1386, respectively.

SUPPLEMENTARY INFORMATION:

Background

This matter arose from a challenge to the Final Results issued by the Department on October 16, 2007, for the period of review of June 1, 2005, through May 31, 2006. Following publication of the Final Results, Petitioner, Globe Metallurgical, Inc., and Respondents ¹ filed lawsuits with the CIT challenging several aspects of the Department's Final Results. The cases were subsequently consolidated. On October 1, 2008, the CIT issued its opinion, in which it upheld the Final Results on all counts except for the surrogate value of silica fume. The CIT remanded the case to the Department to obtain better information for valuing silica fume or to use information on the record that relates specifically to the by-product silica fume. See Remand Order at 14.

¹ Respondents referenced here are (1) Jiangxi Gangyuan Silicon Industry Co., Ltd. (“Jiangxi Gangyuan”); and (2) Shanghai Jinneng International Trade Co., Ltd. (“Shanghai Jinneng”) and its affiliated producer Datong Jinneng Industrial Silicon Co., Ltd. (“Datong Jinneng”).

On October 9, 2008, the Department reopened the administrative record to allow interested parties an opportunity to provide additional information for use in valuing silica fume. Petitioner and Respondents submitted comments on October 16, 2008, and rebuttal comments on October 24, 2008. On December 23, 2008, the Department released its draft remand results using a revised surrogate value for silica fume based on a subset of World Trade Atlas (“WTA”) Indian import statistics for silicon dioxide from silicon metal or ferrosilicon producing countries. On January 9, 2009, the Department received comments on the draft remand results from Petitioner. On January 14, 2009, the Department received rebuttal comments from Respondents.

On February 2, 2009, the Department submitted its final remand results to the CIT. See Final Results of Redetermination Pursuant to Court Remand, Court No. 07-00386 (Feb. 2, 2009). On May 5, 2009, the CIT issued its ruling and sustained the Department's remand results. See May 5th Order at 2. The CIT found that the Department's new surrogate value for silica fume was more specific to silica fume, as required by the Remand Order, and was supported by substantial evidence.

On July 1, 2009, Respondents filed an appeal with the CAFC. On February 23, 2010, the CAFC dismissed the case, pursuant to Respondents' withdrawal of their appeal.

Amendment to the Final Determination

Because there is now a final and conclusive court decision, effective as of the publication date of this notice, we are amending the Final Results and revising the weighted average dumping margins for Jiangxi Gangyuan and Shanghai Jinneng:

Silicon Metal From the PRC
Manufacturer/exporter | Weighted- average margin
Jiangxi Gangyuan | 71.57%
Datong Jinneng/Shanghai Jinneng | 50.41

We have calculated Jiangxi Gangyuan and Shanghai Jinneng's company-specific antidumping margin as 71.57% and 50.41%, respectively. See Memorandum to the File from Jerry Huang, “Analysis Memorandum for the Final Results of the Redetermination of the Silica Fume By-Product Valuation, Remand for Antidumping Duty New Shipper Review of Silicon Metal From the People's Republic of China for Datong Jinneng Industrial Silicon Co., Inc./Shanghai Jinneng International Trade Co., Ltd.,” and Memorandum to the File From Jerry Huang, “Analysis Memorandum for the Final Results of the Redetermination of the Silica Fume By-Product Valuation, Remand for Antidumping Duty New Shipper Review of Silicon Metal From the People's Republic of China for Jiangxi Gangyuan Silicon Industry Co., Ltd.,” both dated February 2, 2009. There have been no changes to this analysis for these amended final results. In accordance with the Department's practice of applying importer-specific assessment rates, we will instruct United States Customs and Border Protection (“CBP”) to apply the importer-specific assessment rate for Jiangxi Gangyuan and Shanghai Jinneng's exports to the United States. The Department intends to issue appropriate assessment instructions directly to CBP 15 days after the publication of the final results of this review.

This notice is issued and published in accordance with sections 751(a)(1) and 777(i)(1) of the Tariff Act of 1930, as amended.

Dated: March 23, 2010.
Ronald K. Lorentzen,
Deputy Assistant Secretary for Import Administration.

[FR Doc. 2010-6896 Filed 3-26-10; 8:45 am]

BILLING CODE 3510-DS-P